DEPARTMENT OF COMMERCE

National Oceanic and Atmospheric Administration

50 CFR Part 648

[Docket No. 021223329-2329-01; I.D. 121302A]

RIN 0648-AQ26

Fisheries of the Northeastern United States; Atlantic Bluefish Fishery

AGENCY: National Marine Fisheries Service (NMFS), National Oceanic and Atmospheric Administration (NOAA), Commerce.

ACTION: Proposed 2003 specifications for the Atlantic bluefish fishery; request for comments.

SUMMARY: NMFS proposes 2003 specifications for the Atlantic bluefish fishery, including total allowable landings (TAL), state-by-state commercial quotas, and recreational harvest limits and possession limits for Atlantic bluefish off the East Coast of the United States. The intent of the specifications is to conserve and manage the bluefish resource and provide for sustainable fisheries.

DATES: Public comments must be received no later than 5 p.m., Eastern Standard Time, on January 21, 2003.

ADDRESSES: Copies of supporting documents, including the Environmental Assessment (EA), Initial Regulatory Flexibility Analysis (IRFA), and the Essential Fish Habitat Assessment (EFHA) are available from: Daniel Furlong, Executive Director, Mid-Atlantic Fishery Management Council, Room 2115, Federal Building, 300 South New Street, Dover, DE 19904-6790. The EA, IRFA, and EFHA are accessible via the Internet at http:/www.nero.noaa.gov.

Comments on the proposed specifications should be sent to: Patricia A. Kurkul, Regional Administrator, Northeast Regional Office, NMFS, One Blackburn Drive, Gloucester, MA 01930-2298. Please mark the envelope, “Comments—2003 Bluefish Specifications.” Comments also may be sent via facsimile (fax) to 978-281-9135. Comments will not be accepted if submitted via e-mail or Internet.

FOR FURTHER INFORMATION CONTACT: Paul Perra, Fishery Policy Analyst, (978) 281-9153, e-mail at Paul.Perra@noaa.gov, fax at (978) 281-9135.

SUPPLEMENTARY INFORMATION: Regulations implementing the Atlantic Bluefish Fishery Management Plan (FMP) prepared by the Mid-Atlantic Fishery Management Council (Council) appear at 50 CFR part 648, subparts A and J. Regulations requiring annual specifications are found at § 648.160. The FMP requires that the Council recommend, on an annual basis, a TAL, which is comprised of a commercial quota and a recreational harvest limit.

The FMP also requires that: (1) The TAL for any given year be set based on the fishing mortality rate (F) resulting from the stock rebuilding schedule contained in the FMP, or the estimated F in the most recent fishing year, whichever is lower; and (2) a total of 17 percent of the TAL be allocated to the commercial fishery, as a quota, with the remaining 83 percent allocated as a recreational harvest limit, with the stipulation that, if 17 percent of the TAL is less than 10.50 million lb (4.8 million kg) and the recreational fishery is not projected to land its harvest limit for the upcoming year, the commercial fishery may be allocated up to 10.50 million lb (4.8 million kg) as its quota, provided that the combination of the projected recreational landings and the commercial quota does not exceed TAL.

The Council's recommendations must include supporting documentation, as appropriate, concerning the environmental, economic, and social impacts of the recommendations. NMFS is responsible for reviewing these recommendations to assure they achieve the FMP objectives, and may modify them if they do not. NMFS then publishes proposed specifications in the Federal Register. After considering public comment, NMFS will publish final specifications in the Federal Register.

Proposed 2003 Specifications

Proposed TAL

On August 9, 2002, the Council adopted specifications for the 2003 Atlantic bluefish fishery. NMFS has reviewed the Council's recommendation and has found it complies with the FMP objectives. Therefore, NMFS is proposing to implement the Council's recommended specifications.

For the 2003 fishery, the stock rebuilding program in the FMP would restrict F to 0.41. However, the 2001 fishery (the most recent fishing year for which F can be calculated) produced an F of only 0.246. So, in accordance with the FMP, the TAL proposed for 2003 was set to achieve F=0.246. The resulting TAC recommended by the Council and proposed by NMFS is 39.5 million lb (17.9 million kg). The TAL is calculated by deducting discards, estimated at 2.2 million lb (0.99 million kg) for 2003, from the TAC. Therefore, the proposed TAL for 2003 is 37.293 million lb (16.916 million kg).

Proposed Commercial Quota and Recreational Harvest Limit

If the TAL for the 2003 fishery were allocated based on the percentages specified in the FMP, the commercial quota would be 6.339 million lb (2.875 million kg), with a recreational harvest limit of 30.953 million lb (10.500 million kg). However, recreational landings from the last several years were much lower than the recreational allocation for 2003, ranging between 8.30 and 15.5 million lb (3.74 and 7.05 million kg). Since the recreational fishery is not projected to land its 30.953 million-lb (12.153 million-kg) harvest limit in 2003, this allows the specification of a commercial quota of up to 10.5 million lb (4.76 million kg). NMFS proposes to transfer 4.161 million lb (1.887 million kg) from the initial 2003 recreational allocation of 30.953 million lb (12.153 million kg), resulting in 26.793 million lb (12.153 million kg) for the 2003 recommended recreational harvest limit and a proposed commercial quota of 10.5 million lb (4.744 million kg). The proposed 2003 commercial quota would be the same amount as was allocated in 2002 and implemented by NMFS and the states under the Atlantic States Marine Fisheries Commission's Interstate Fishery Management Plan for Atlantic Bluefish. A recreational possession limit of 15 fish/person (same as in 2002) is proposed, and also, 141,900-lb (64,365-kg) research set-aside (RSA) is proposed. Some or all of the RSA amount will be allocated if research proposals to utilize it are approved for award. A Request for Proposals was published to solicit proposals for 2003, based on research priorities identified by the Council (67 FR 13602, March 25, 2002). The deadline for submission was May 13, 2002. One research project that would utilize bluefish RSA has been conditionally approved by NMFS, and is under final review by the NOAA Grants Office. The Council and NMFS have recommended an RSA allocation of 141,900 lb (64,365 kg), for that project.

If all of the bluefish RSA is allocated, the commercial quota would be 10.460 million lb (4.745 million kg) and the recreational harvest limit would be 26.691 million lb (12.107 million kg). The RSA, the commercial quota, and the recreational harvest limit will be adjusted in the final rule establishing the annual specifications for the bluefish fishery, if necessary, to reflect RSA allocations to projects forwarded to the NOAA Grants Office for award. If the awards are not made for any reason, NMFS will publish notification in the Federal Register to restore the unused set-aside amount to the annual commercial and recreational allocations.

Proposed State Commercial Allocations

Proposed state commercial allocations for the recommended 2003 commercial quotas are shown in the table below, based on the percentages specified in the FMP less the proposed RSA allocation.

State | % of quota | 2003 Commercial Quota (lb) | 2003 Commercial Quota (kg) | 2003 Commercial Quota (lb): With Research Set-Aside | 2003 Commercial Quota (kg): With Research Set-Aside
ME | 0.6685 | 70,193 | 31,839 | 6,992 | 31,718
NH | 0.4145 | 43,523 | 19,741 | 43,357 | 19,667
MA | 6.7167 | 705,254 | 319,898 | 702,570 | 318,684
RI | 6.8081 | 714,851 | 324,251 | 712,131 | 323,021
CT | 1.2663 | 132,962 | 60,310 | 132,456 | 60,082
NY | 10.3851 | 1,090,436 | 494,613 | 1,086,286 | 492,736
NJ | 14.8162 | 1,555,701 | 705,654 | 1,549,782 | 702,977
DE | 1.8782 | 197,211 | 89,453 | 196,461 | 89,114
MD | 3.0018 | 315,189 | 142,967 | 313,990 | 142,425
VA | 11.8795 | 1,247,348 | 565,787 | 1,242,601 | 563,640
NC | 32.0608 | 3,366,384 | 1,526,966 | 3,353,575 | 1,521,172
SC | 0.0352 | 3,696 | 1,676 | 3,682 | 1,670
GA | 0.0095 | 998 | 452 | 994 | 451
FL | 10.0597 | 1,056,269 | 479,115 | 1,052,249 | 477,297
Total | 100.0000 | 10,500,000 | 4,762,720 | 10,460,058 | 4,744,652

Classification

This action is authorized by 50 CFR part 648 and has been determined to be not significant for purposes of Executive Order 12866. The Council prepared an Initial Regulatory Flexibility Analysis (IRFA) that describes the impact this proposed rule, if adopted, would have on small entities. A description of the action, why it is being considered, and the legal basis for the action are provided in the preamble for the proposed rule, and in the SUMMARY section of the preamble, and in the IRFA. A summary of the IRFA follows.

An active participant in the commercial sector was defined as being any vessel that reported having landed one or more pounds of bluefish to NMFS-permitted dealers during calendar year 2001. All vessels are considered to be small entities. Of the active vessels in 2001, 846 landed bluefish from Maine to North Carolina. The dealer data do not cover vessel activity in the South Atlantic. State trip ticket report data indicate that 1,092 vessels landed bluefish in North Carolina. Bluefish landings in South Carolina and Georgia represented less than 1/10 of 1 percent of total landings. Therefore, it was assumed that no vessels landed bluefish from those states. In addition, 214 vessels landed bluefish to dealers on Florida's east coast in 2001. In recent years, approximately 2,063 party/charter vessels caught bluefish.

The Council analyzed three TAL alternatives. The preferred alternative examined the impacts on the industry that would result from a TAL of 37.293 million lb (16.916 million kg), allocated to the commercial and recreational sectors (10.460 million lb (4.74 million kg) commercial; 26.691 million lb (12.107 million kg) recreational), and an RSA of 141,900 million lb (64,356 kg). Alternative 2 considered a TAL of 37.293 million lb (16.916 million kg), allocated to the commercial and recreational sectors (6.315 million lb (2.864 million kg) commercial; 30.835 million lb (13.986 million kg, recreational), and an RSA of 141,900 lb (64,365 kg). Alternative 3, provides for a lower commercial quota than Alternative 1, considers a TAL of 37.293 million lb (16.916 million kg) 9.546 million lb (4.329 million kg) commercial; 27.604 million lb (12.521 million kg) recreational), and an RSA of 141,900 lb (64,365 Kg).

On a coastwide basis, the preferred alternative would allow for less than a 1-percent decrease in total allowable commercial landings for bluefish in 2003 versus the 2002 commercial quota, due to the amount specified for the RSA. The 2003 recreational harvest limit would be 63 percent higher than the estimated recreational landings in 2002. Under this alternative, no vessels would realize significant revenue reductions. According to dealer data, 650 federally permitted commercial vessels would be expected to incur revenue losses of 5 percent or less, and 193 commercial vessels would incur revenue gains. The affected entities would be mostly smaller vessels that land bluefish in Massachusetts, New Jersey, New York and North Carolina. The revenue increase is primarily due to the fact that the New York quota was adjusted downward in 2002 due to overages in 2001. Thus, that state shows a positive proportional change in quota from 2002 to 2003 (see section 5.3 of the RIR/IRFA). In addition, economic analysis of South Atlantic Trip Ticket Report data indicated that, on average, reduction in revenues due to the change in quota levels from 2002 to 2003 are expected to have small reductions in revenue for fishermen that land bluefish in North Carolina (1.44 percent) and minimal for fishermen that land bluefish in Florida (0.07 percent).

Alternative 2 would result in a 40-percent decrease in the total allowable commercial landings for bluefish in 2003 versus 2002. The 2003 recreational harvest limit would be 88 percent higher than the estimated recreational landings in 2002. Under this scenario, according to Northeast dealer data, a total of 103 vessels would incur revenue losses from 5 to 39 percent, and 740 vessels would incur revenue losses of less than 5 percent of their total ex-vessel revenue. Also, evaluation of South Atlantic Trip Ticket Reports indicate an average of 6.1 and 0.03-percent reductions in revenue for fishermen that land bluefish in North Carolina and Florida, respectively.

Alternative 3 would result in a 9-percent decrease in the total allowable commercial landings for bluefish in 2003 versus 2002. The 2003 recreational harvest limit would be 69 percent higher than the estimated recreational landings in 2002. Under this scenario, based on Northeast dealer data, a total of 28 vessels would incur revenue losses from 5 to 10 percent, 626 commercial vessels would incur revenue losses of less than 5 percent of their total ex-vessel revenue, and 189 vessels would incur an increase in revenue. The revenue increase is primarily due to the fact that the New York quota was adjusted downward in 2002 due to overages in 2001. Thus, that state shows a positive proportional change in quota from 2002 to 2003 (see section 5.3 of the RIR/IRFA). Also, evaluation of South Atlantic Trip Ticket Reports indicate reduction in revenues of 1.44 and 0.07-percent for fishermen that land bluefish in North Carolina and Florida, respectively.

The Council further analyzed the impacts on revenues of the proposed RSA amount for all three alternatives. The social and economic impacts of this proposed RSA are minimal. Assuming the full RSA is allocated for bluefish, the set-aside amount could be worth as much as $45,480 dockside, based on a 2001 price of $0.32 per pound. Assuming an equal reduction among all 834 active dealer reported vessels, this could mean a reduction of about $55 per individual vessel. Changes in the recreational harvest limit would be insignificant (less than 1 percent decrease), if 2 percent of the TAL is used for research. It is unlikely that there would be negative impacts. A copy of this analysis is available from the Council (see ADDRESSES).

Authority: 16 U.S.C. 1801 et seq.

Dated: December 27, 2002.
Rebecca Lent,
Deputy Assistant Administrator for Regulatory Programs National Marine Fisheries Service.

[FR Doc. 03-179 Filed 1-3-03; 8:45 am]

BILLING CODE 3510-22-S